DEPARTMENT OF TRANSPORTATION

Federal Aviation Administration

Agency Information Collection Activities: Requests for Comments; Clearance of Renewed Approval of Information Collection: Pilot Schools

AGENCY: Federal Aviation Administration (FAA), DOT.

ACTION: Notice and request for comments.

SUMMARY: In accordance with the Paperwork Reduction Act of 1995, FAA invites public comments about our intention to request the Office of Management and Budget (OMB) approval to renew an information collection. The information on FAA Form 8420-8, Application for Pilot School Certificates, is required from applicants who wish to be issued pilot school certificates and associated ratings.

DATES: Written comments should be submitted by June 4, 2012.

FOR FURTHER INFORMATION CONTACT: Kathy DePaepe at (405) 954-9362, or by email at: Kathy.A.DePaepe@faa.gov.

SUPPLEMENTARY INFORMATION: OMB Control Number: 2120-0009.

Title: Pilot Schools.

Form Numbers: FAA form 8420-8.

Type of Review: Renewal of a current information collection.

Background: The information on FAA Form 8420-8, Application for Pilot School Certificates, is required from applicants who wish to be issued pilot school certificates and associated ratings. Pilot schools train private, commercial, flight instructor, and airline transport pilots, along with training for associated ratings in various types of aircraft. The form is also necessary to assure continuing compliance with Part 141, renewal of certificates every 24 months, and for any amendments to pilot school certificates, FAA approval of pilot school certificate amendments enables schools to provide new training courses not previously approved.

Respondents: Approximately 546 applicants.

Frequency: Information is collected on occasion.

Estimated Average Burden per Response: 27 hours.

Estimated Total Annual Burden: 29,770 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Dated: Issued in Washington, DC, on March 27, 2012.
Albert R. Spence,
FAA Assistant Information Collection Clearance Officer, IT Enterprises Business Services Division, AES-200.

[FR Doc. 2012-7937 Filed 4-2-12; 8:45 am]

BILLING CODE 4910-13-P